NUCLEAR REGULATORY COMMISSION

[Docket No. 50-271]

Entergy Nuclear Operations, Inc. Notice of Receipt and Availability of Application for Renewal of Vermont Yankee Nuclear Power Station Facility Operating License No. Dpr-28 for an Additional 20-Year Period

The U.S. Nuclear Regulatory Commission (NRC or Commission) has received an application, dated January 25, 2006, from Entergy Nuclear Operations, Inc., filed pursuant to Section 104b (DPR-28) of the Atomic Energy Act of 1954, as amended, and 10 CFR part 54, to renew the operating license for the Vermont Yankee Nuclear Power Station. Renewal of the license would authorize the applicant to operate the facility for an additional 20-year period beyond the period specified in the current operating license. The current operating license for the Vermont Yankee Nuclear Power Station (DPR-28) expires on March 21, 2012. The Vermont Yankee Nuclear Power Station is a Boiling Water Reactor designed by General Electric. The unit is located in Vernon, VT. The acceptability of the tendered application for docketing, and other matters including an opportunity to request a hearing, will be the subject of subsequent Federal Register notices.

Copies of the application are available for public inspection at the Commission's Public Document Room (PDR), located at One White Flint North, 11555 Rockville Pike (first floor), Rockville, Maryland, 20582 or electronically from the NRC's Agencywide Documents Access and Management System (ADAMS) Public Electronic Reading Room under accession number ML060300078. The ADAMS Public Electronic Reading Room is accessible from the NRC's Web site at http://www.nrc.gov/reading-rm/adams.html. In addition, the application is available at http://www.nrc.gov/reactors/operating/licensing/renewal/applications.html, on the NRC's Web page, while the application is under review. Persons who do not have access to ADAMS or who encounter problems in accessing the documents located in ADAMS should contact the NRC's PDR Reference staff at 1-800-397-4209, extension 301-415-4737, or by e-mail to pdr@nrc.gov.

A copy of the license renewal application for the Vermont Yankee Nuclear Power Station is also available to local residents near the Vermont Yankee Nuclear Power Station at the following four public libraries: Vernon Free Library, 567 Governor Hunt Rd, Vernon, VT 05354; Brooks Memorial Library, 224 Main Street, Brattleboro, VT 05301; Hinsdale Public Library, 122 Brattleboro Rd, Hinsdale, NH 03451; and Dickinson Memorial Library, 115 Main St, Northfield, MA 01360.

Dated at Rockville, Maryland, this 31st day of January, 2006.
For the Nuclear Regulatory Commission.
Frank P. Gillespie,
Director, Division of License Renewal, Office of Nuclear Reactor Regulation.

[FR Doc. E6-1567 Filed 2-3-06; 8:45 am]

BILLING CODE 7590-01-P